DEPARTMENT OF ENERGY

Federal Energy Regulatory Commission

[Docket No. ER11-2875-001; Docket No. EL11-20-001]

PJM Interconnection, LLC; PJM Power Providers Group v. PJM Interconnection, LLC; Notice of Date for Staff Technical Conference and Related Information

On June 13, 2011, the Commission issued an order in this proceeding granting rehearing of its April 12, 2011 order,¹ for further consideration, and establishing a technical conference to explore the issues raised on rehearing regarding the applicability of the PJM Interconnection, LLC (PJM) Minimum Offer Price Rule (MOPR) as it relates to self-supply Sell Offers for Planned Generation Capacity Resources submitted into PJM's Reliability Pricing Model base residual auction.²

¹ PJM Interconnection, LLC, 135 FERC ¶ 61,022 (2011).

² PJM Interconnection, LLC, 135 FERC ¶ 61,228 (2011).

Take notice that the technical conference will be held on July 28, 2011, beginning at 9 a.m. (EDT) in the Commission Meeting Room at the Commission's Washington, DC headquarters, 888 First Street, NE. The technical conference will be led by Commission staff, however Commissioners may attend. All interested parties are invited to attend. Registration is not required. The technical conference is expected to adjourn by 12:30 p.m. (EDT).

The scope of the conference will include, among other related issues, a discussion of: (1) Whether exempting self-supply resources from PJM's MOPR presents an opportunity to exercise buyer market power; (2) whether the Fixed Resource Requirement (FRR) alternative is a viable option for those wishing to self-supply; and (3) whether there are alternatives to the FRR option that allow parties to self-supply while deterring buyer market power.

Parties will have 21 days after the technical conference to respond to the issues raised. A subsequent notice will be issued announcing panelists and the format of the conference.

Parties that have intervened in the proceeding and that are interested in participating on a panel, or require additional information, should contact Jonathan Fernandez at jonathan.fernandez@ferc.gov or (202) 502-6604 by July 6, 2011.

A free Web cast of this event will be available through http://www.ferc.gov. Anyone with Internet access interested in viewing the Web cast of this conference can do so by navigating to Calendar of Events at http://www.ferc.gov. The event will contain a link to its Web cast. The Capitol Connection provides technical support for the Web casts and offers the option of listening to the conferences via phone-bridge for a fee. If you have any questions, visit http://www.CapitolConnection.org or call (703) 993-3100.

FERC conferences are accessible under section 508 of the Rehabilitation Act of 1973. For accessibility accommodations please send an e-mail to accessibility@ferc.gov or call toll free (866) 208-3372 (voice) or (202) 502-8659 (TTY), or send a fax to (202) 208-2106 with the required accommodations.

Dated: June 29, 2011.
Nathaniel J. Davis, Sr.,
Deputy Secretary.

[FR Doc. 2011-16961 Filed 7-6-11; 8:45 am]

BILLING CODE 6717-01-P